Title 3—

The President

Proclamation 7364 of October 16, 2000

Amending Proclamation 7362, Display of the Flag at Half-Staff as a Mark of Respect for Those Who Died on the United States Ship Cole

By the President of the United States of America

A Proclamation

By the authority vested in me as President of the United States by the Constitution and the laws of the United States of America, and in order to extend the display of the flag at half-staff as a mark of respect for those who died on the United States Ship COLE, it is hereby ordered that Proclamation 7362 of October 12, 2000, is amended by deleting in the first sentence the words “Monday, October 16” and inserting in their place the words “Wednesday, October 18.”

IN WITNESS WHEREOF, I have hereunto set my hand this sixteenth day of October, in the year of our Lord two thousand, and of the Independence of the United States of America the two hundred and twenty-fifth.

wj

[FR Doc. 00-26987

Filed 10-17-00; 10:51 am]

Billing code 3195-01-P